DEPARTMENT OF THE INTERIOR

Bureau of Reclamation

[RR01016000, XXXR4524KK, RX.411.29361.1010000]

Notice To Reopen the Solicitation Period To Contract for Hydroelectric Power Development on the Bureau of Reclamation's North Unit Main Canal, Deschutes Project, Madras, Oregon

AGENCY: Bureau of Reclamation, Interior.

ACTION: Notice to reopen a solicitation period.

SUMMARY: The Bureau of Reclamation is reopening the public notice of intent to contract for hydroelectric power development on the Bureau of Reclamation's North Unit Main Canal, Deschutes Project, Madras, Oregon.

DATES: The solicitation period for the proposals published June 21, 2018 (83 FR 28861), is reopened. Proposals should be received on or before April 22, 2019.

ADDRESSES: You may send eight copies of the written proposal to Mr. Joseph Summers, Regional Power Manager, Bureau of Reclamation, 1150 North Curtis Road, Suite 100, Boise ID 83706; telephone (208) 378-5290.

FOR FURTHER INFORMATION CONTACT: Florence Webster, (208) 378-5332, fwebster@usbr.gov; or Jake Nink, (208) 378-5090, jnink@usbr.gov.

SUPPLEMENTARY INFORMATION: On June 21, 2018, Reclamation published a notice in the Federal Register announcing its intent to contract for hydroelectric power development on Reclamation's North Unit Main Canal, Deschutes Project, Madras, Oregon. In response to requests from the applicant, Reclamation is reopening the solicitation period for 30 days for competing proposals.

Dated: March 13, 2019.
Robert Skordas,
Deputy Regional Director, Pacific Northwest Region.

[FR Doc. 2019-05419 Filed 3-21-19; 8:45 am]

BILLING CODE 4332-90-P